DEPARTMENT OF ENERGY

Federal Energy Regulatory Commission

[Docket No. CP07-68-000]

Gulf South Pipeline Company, LP; Notice of Application

January 30, 2007.

Take notice that on January 22, 2007, Gulf South Pipeline Company LP (Gulf South), 20 East Greenway, Houston, Texas 77046, filed in Docket No. CP07-68-000 an application pursuant to section 7(b) of the Natural Gas Act (NGA) for permission and approval to abandon, in place, one compressor unit at the Edna Compressor Station, Jackson County, Texas and four compressor units at the Refugio Compressor Station, Refugio County, Texas, all as more fully set forth in the application.

The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov and follow the instructions or toll-free at (866) 208-3676, or for TTY, contact (202) 502-8659.

Any questions concerning this request may be directed to J. Kyle Stephens, Director of Certificates, Gulf South Pipeline Company, LP, 20 East Greenway Plaza, Houston, Texas 77046, or call (713) 544-7309, by fax (713) 544-3540, or by e-mail to kyle.stephens@gulfsouthpl.com.

Gulf South states that it is required, by the Texas Commission on Environmental Quality (TCEQ), to reduce its overall NOx output by 50% in East and South Texas. Gulf South contends that as part of its strategy to meet TCEQ's requirement, Gulf South has chosen to permanently abandon four compressor units at Refugio and one compressor unit at Edna instead of retrofitting the stations with expensive emissions reducing equipment. Gulf South avers that it would be able to meet all of its firm transportation obligations without these facilities and meet TCEQ requirements for the reduction of NOx emissions in a cost effective manner.

Gulf South asserts that no interruption, reduction, or termination of natural gas service would occur as a result of the proposed abandonment.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filing of comments, protests and interventions via the Internet in lieu of paper. See 18 CFR 385.2001 (a)(1)(iii) and the instructions on the Commission's Web site www.ferc.gov under the “e-Filing” link.

Comment Date: February 20, 2007.

Magalie R. Salas,
Secretary.

[FR Doc. E7-1923 Filed 2-6-07; 8:45 am]

BILLING CODE 6717-01-P